FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—01/05/2009
20090214 | Industrial Growth Partners III, L.P | Robert F. O'Brien | CARDINALUHP LLC, OBCORP LLC, OBCORP, LLC.
Transactions Granted Early Termination—01/06/2009
20090226 | Renaissance Acquisition Corp | First Communications, Inc | First Communications, Inc.
Transactions Granted Early Termination—01/09/2009
20090215 | Grupo Bimbo, S.A.B. de C.V | W. Galen Weston | Weston Foods, Inc.
20090229 | Iowa Telecommunications Services, Inc | Sherbume Tele Systems, Inc | Northstar Access, LLC, Northstar Tele-Com, Inc., Sherbume Cable-Corn, Inc., Sherburne County Rural Telephone, Co., Sherbume Fiber-Corn, Inc., Sherbume Long Distance, Inc., Sherbume Tel-Corn, Inc., Sherburne Tele Systems, Inc.
20090239 | Bain Capital (CC) IX, L.P | Mr. Sumner M. Redstone | CBS Radio Holdings, Inc.
20090240 | Thomas H. Lee Equity Fund VI, L.P | Mr. Sumner M. Redstone | CBS Radio Holdings, Inc.
Transactions Granted Early Termination—01/12/2009
20090235 | ETIRPC | Eclipse Aviation Corporation | Eclipse Aviation Corporation.
Transactions Granted Early Termination—01/15/2009
20090219 | Ryder System, Inc | Edart Leasing Company, LLC | Edart Leasing Company, LLC.
Transactions Granted Early Termination—01/16/2009
20090141 | SAFRAN | Motorola, Inc | Printrak International, Inc.
Transactions Granted Early Termination—01/21/2009
20090248 | Seidler Equity Partners III, L.P | Stuart Utgaard | Sportsman's Warehouse Holdings, Inc.
20090253 | Phillip G. Ruffin | Kirk Kerkorian | Treasure Island Corp.
Transactions Granted Early Termination—01/23/2009
20090159 | L-3 Communications Holdings, Inc | Chesapeake Sciences Corporation | Chesapeake Sciences Corporation.
20090231 | Sequoia Capital Franchise Fund LP | Green Dot Corporation | Green Dot Corporation.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. E9-2380 Filed 2-4-09; 8:45 am]

BILLING CODE 6750-01-M